DEPARTMENT OF ENERGY

Federal Energy Regulatory Commission

[Docket No. AD07-8-000]

Notice of Technical Conference; Review of Market Monitoring Policies

January 25, 2007.

A technical conference will be held on April 5, 2007, to review the Commission's general policies regarding market monitoring.¹

¹ The Commission announced its intent to hold a technical conference in PJM Interconnection, LLC., order on reh'g, 117 FERC ¶ 61,263 (2006).

The conference will be held from 9:30 a.m. until 3 p.m. (EDT) in the Commission Meeting Room of the Federal Energy Regulatory Commission, 888 First Street, NE., Washington, DC 20426. The Commission will issue at least one supplemental notice with a detailed agenda prior to the conference.

The conference is open to the public to attend. A free webcast of this event will be available through www.ferc.gov. Anyone with Internet access who desires to view this event can do so by navigating to www.ferc.gov's Calendar of Events and locating this event in the Calendar. The event will contain a link to its Webcast. The Capitol Connection provides technical support for the Webcasts and offers access to the meeting via phone bridge for a fee. If you have any questions, visit http://www.CapitolConnection.org or contact Danelle Perkowski or David Reininger at 703-993-3100.

Transcripts of the meeting will be available immediately for a fee from Ace Reporting Company (202-347-3700 or 1-800-336-6646). They will be available for free on the Commission's eLibrary system and on the events calendar approximately one week after the meeting.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

For additional information, please contact Saida Shaalan by e-mail at Saida.Shaalan@ferc.gov or by phone at 202-502-8278.

Magalie R. Salas.
Secretary.

[FR Doc. E7-1662 Filed 2-1-07; 8:45 am]

BILLING CODE 6717-01-P